DEPARTMENT OF COMMERCE

National Oceanic and Atmospheric Administration

Agency Information Collection Activities; Submission to the Office of Management and Budget (OMB) for Review and Approval; Comment Request; Antarctic Marine Living Resources Conservation and Management Measures

AGENCY: National Oceanic & Atmospheric Administration (NOAA), Commerce.

ACTION: Notice.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before April 14, 2023.

ADDRESSES: Interested persons are invited to submit written comments to Adrienne Thomas, NOAA PRA Officer, at NOAA.PRA@noaa.gov. Please reference OMB Control Number 0648-0194 in the subject line of your comments. Do not submit Confidential Business Information or otherwise sensitive or protected information.

FOR FURTHER INFORMATION CONTACT: Requests for additional information or specific questions related to collection activities should be directed to MiAe Kim, Office of International Affairs, Trade, and Commerce, 1315 East-West Hwy, Silver Spring, MD, 20910; (301) 427-8365, mi.ae.kim@noaa.gov.

SUPPLEMENTARY INFORMATION:

I. Abstract

The Office of International Affairs, Trade, and Commerce of the National Marine Fisheries Service requests renewal of an existing information collection.

The 1982 Convention on the Conservation of Antarctic Marine Living Resources (Convention) established the Commission for the Conservation of Antarctic Marine Living Resources (CCAMLR) for the purpose of protecting and conserving the marine living resources in the waters surrounding Antarctica. The Convention is based upon an ecosystem approach to the conservation of marine living resources and incorporates standards designed to ensure the conservation of individual populations and species and the Antarctic marine ecosystem as a whole.

The United States (U.S.) is a contracting party to the Convention and a member of CCAMLR and the Scientific Committee established by the Convention.

On November 8, 1984, the President signed Public Law 98-623, the Antarctic Marine Living Resources Convention Act (the Act). The Act directs and authorizes the United States to take actions necessary to meet its treaty obligations as a contracting party to the Convention. The regulations implementing the Act are at 50 CFR part 300, subpart G. The record keeping and reporting requirements at 50 CFR part 300 form the basis for this collection of information. The reporting requirements included in this collection concern CCAMLR Ecosystem Monitoring Program (CEMP) activities, scientific research in the Convention area, U.S. vessel permit applicants and/or harvesting vessel operators, and U.S. importers, exporters, and re-exporters of AMLR.

U.S. regulations require U.S. individuals engaged in AMLR harvesting, transshipping, and importing or entering and/or conducting activities in a CEMP site to apply for and hold a permit for such activities. Individuals involved in certain scientific research in the Convention area are required to report information.

Members of CCAMLR are required to provide, in the manner and at such intervals as may be prescribed, information about harvesting activities, including fishing areas and vessels, so as to enable reliable catch and effort statistics to be compiled.

As part of U.S. obligations to monitor and control the import, export, and re-export of Antarctic marine living resources, NOAA requires dealers to submit applications for pre-approval certifications of imports of frozen Patagonian and Antarctic toothfish (also referred to as Chilean sea bass) and applications for re-exports of these species.

The collection is necessary in order for the United States to meet its treaty obligations as a contracting party to the Convention.

II. Method of Collection

On-line or paper applications, electronic reports, satellite-linked vessel monitoring devices, radio and telephone calls, gear and vessel markings are required from participants and methods of transmittal include internet, satellite, facsimile and mail transmission of forms, reports and information.

III. Data

OMB Control Number: 0648-0194.

Form Number(s): None.

Type of Review: Regular submission, extension of a current information collection, revision.

Affected Public: Individuals; business or other for-profit organizations; not-for-profit institutions.

Estimated Number of Respondents: 80.

Estimated Time per Response: One hour to apply for a CEMP research permit; 1 hour to report on research; 28 hours to supply information on potential new or exploratory fishing; 2 hours to apply for a harvesting permit; 2 minutes to transmit information by radio; 4 hours to install a vessel monitoring device (VMS); 2 hours for annual VMS maintenance; 5 minutes to complete a VMS activation checklist; 45 minutes to mark a vessel; 40 minutes to mark buoys; 10 hours to mark pot gear; 6 minutes to mark trawl nets; 15 minutes to provide notice of transshipment within the Convention Area; 5 minutes for an Observer notification call; 15 minutes to apply for a permit to be a first receiver of Antarctic marine living resources; 15 minutes to complete and submit a toothfish catch document; 15 minutes to apply for pre-approval of toothfish imports; 15 minutes to complete a fresh toothfish reporting form; 15 minutes to complete and submit re-export catch documents; 15 minutes to submit import tickets.

Estimated Total Annual Burden Hours: 365 hours.

Estimated Total Annual Cost to Public: $135,850.

Respondent's Obligation: Required to Obtain or Retain Benefits.

Legal Authority: Antarctic Marine Living Resources Convention Act, 16 U.S.C. 2431 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2023-02932 Filed 2-10-23; 8:45 am]

BILLING CODE 3510-22-P